DEPARTMENT OF COMMERCE

International Trade Administration

[C-570-978]

High Pressure Steel Cylinders from the People's Republic of China: Rescission of Countervailing Duty Administrative Review; 2011-2012

AGENCY: Import Administration, International Trade Administration, Department of Commerce.

SUMMARY: The Department of Commerce (Department) is rescinding the administrative review of the countervailing duty order on high pressure steel cylinders (cylinders) from the People's Republic of China (PRC) for the period October 18, 2011, through December 31, 2012.

DATES: Effective Date: September 9, 2013.

FOR FURTHER INFORMATION CONTACT: Joseph Shuler, AD/CVD Operations, Office 1, Import Administration, U.S. Department of Commerce, 14th Street and Constitution Avenue NW., Washington, DC 20230; telephone: (202) 482-1293.

SUPPLEMENTARY INFORMATION:

Background

On August 1, 2013, the Department initiated an administrative review of the countervailing duty order on cylinders from the PRC for the period October 18, 2011, through December 31, 2012,¹ based on a request by Beijing Tianhai Industry Co., Ltd. (BTIC) for a review of itself.² BTIC withdrew its request for an administrative review on August 23, 2013, and no other party requested a review of BTIC.³

¹ See Initiation of Antidumping and Countervailing Duty Administrative Reviews and Request for Revocation in Part, 78 FR 46566, 46568 (August 1, 2013).

² See BTIC's July 1, 2013 letter, “Request for the First Administrative Review of the Countervailing Duty Order on High Pressure Steel Cylinders from the People's Republic of China.”

³ See BTIC's August 23, 2013 letter, “Withdrawal of Review Request in the Administrative Review of Countervailing Duty Order on High Pressure Steel Cylinders from the People's Republic of China.”

Rescission of Review

Pursuant to 19 CFR 351.213(d)(1), the Department will rescind an administrative review, in whole or in part, if the party that requested the review withdraws its request within 90 days of the publication of the notice of initiation of the requested review. In this case, BTIC withdrew its request within the 90-day deadline, and no other parties requested an administrative review of the countervailing duty order. Therefore, we are rescinding the administrative review of cylinders from the PRC covering the period October 18, 2011, through December 31, 2012, in its entirety, in accordance with 19 CFR 351.213(d)(1).

Assessment

The Department will instruct U.S. Customs and Border Protection (CBP) to assess countervailing duties on all entries of cylinders from the PRC. Countervailing duties shall be assessed at rates equal to the cash deposit of estimated countervailing duties required at the time of entry, or withdrawal from warehouse, for consumption, in accordance with 19 CFR 351.212(c)(1)(i). The Department intends to issue appropriate assessment instructions to CBP 15 days after the date of publication of this notice in the Federal Register, if appropriate.

Notifications

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a violation that is subject to sanction.

This notice is issued and published in accordance with sections 751(a)(1) and 777(i)(1) of the Tariff Act of 1930, as amended, and 19 CFR 351.213(d)(4).

Dated: September 3, 2013.
Gary Taverman,
Senior Advisor for Antidumping and Countervailing Duty Operations.

[FR Doc. 2013-21894 Filed 9-6-13; 8:45 am]

BILLING CODE 3510-DS-P